SMALL BUSINESS ADMINISTRATION

Region IV North Florida District Advisory Council; Public Meeting

The U.S. Small Business Administration North Florida District Advisory Council located in Jacksonville, Florida, will host a pubic meeting at 12 p.m. EST on March 2, 2006 at the SBA North Florida District Office located at 7825 Baymeadows Way, Suite 100B, Jacksonville, FL 32256 to discuss such matters that may be presented by members, and staff of the U.S. Small Business Administration, or others present. Anyone wishing to make an oral presentation to the Board must contact Wilfredo J. Gonzalez, District Director, in writing by letter or fax no later than February 27, 2006, in order to be placed on the agenda. Wilfredo J. Gonzalez, District Director, U.S. Small Business Administration, 7825 Baymeadows Way, Suite 100B, Jacksonville, FL 32256. Telephone (904) 443-1900 or FAX (904) 443-1980.

Matthew K. Becker,
Committee Management Officer.

[FR Doc. E6-1182 Filed 1-30-06; 8:45 am]

BILLING CODE 8025-01-P